Proclamation 8706 of September 1, 2011

National Prostate Cancer Awareness Month, 2011

By the President of the United States of America

A Proclamation

Prostate cancer is the second leading cause of cancer-related deaths among men in the United States. The weight of this illness is felt not only by the men living with and fighting prostate cancer, but also by their families, friends, and communities who rally to care for their loved ones. As we observe National Prostate Cancer Awareness Month, we renew our commitment to reducing the impact of prostate cancer on our country by raising awareness and supporting research that will lead to better ways to detect and treat this disease.

Although the exact causes of prostate cancer are not yet known, studies show certain factors—including age, race, and family history—may increase the likelihood of developing the disease. African Americans, in particular, are at a higher risk than men of other backgrounds. I encourage all men, especially those who are at an increased risk, to talk to their doctors about ways they can reduce their chances of developing prostate cancer.

My Administration will continue to promote prostate cancer research and treatment and raise awareness of this illness. The Centers for Disease Control and Prevention support critical research projects and education activities that bring a public health perspective to the issues of early detection and treatment. The Department of Defense and the National Cancer Institute continue to support research, investigate new cancer detection methods, and develop innovative imaging methods and other diagnostic techniques. The Affordable Care Act also expands coverage and gives Americans greater freedom and control over their health-care choices. Reforms in the law ban insurance companies from dropping individuals when they get sick or imposing lifetime dollar limits on health benefits. These changes free cancer patients to focus on getting better instead of worrying about whether they will be able to afford their treatment.

During National Prostate Cancer Awareness Month, we reaffirm our support for prostate cancer patients and survivors, and commend health-care providers, advocates, and researchers for their dedication and perseverance. Our combined efforts to increase awareness of prostate cancer and bolster research will help save lives, and our commitment to our fathers, brothers, and sons will contribute to a brighter tomorrow for future generations.

NOW, THEREFORE, I, BARACK OBAMA, President of the United States of America, by virtue of the authority vested in me by the Constitution and the laws of the United States, do hereby proclaim September 2011 as National Prostate Cancer Awareness Month. I encourage all citizens, government agencies, private businesses, nonprofit organizations, and other groups to join in activities that will increase awareness and prevention of prostate cancer.

IN WITNESS WHEREOF, I have hereunto set my hand this first day of September, in the year of our Lord two thousand eleven, and of the Independence of the United States of America the two hundred and thirty-sixth.

[FR Doc. 2011-23062

Filed 9-6-11; 11:15 am]

Billing code 3195-W1-P